DEPARTMENT OF AGRICULTURE

Agricultural Marketing Service

7 CFR Part 920

[Doc. No. AMS-FV-14-0020; FV14-920-1 CR]

Kiwifruit Grown in California; Continuance Referendum

AGENCY: Agricultural Marketing Service, USDA.

ACTION: Referendum order.

SUMMARY: This document directs that a referendum be conducted among eligible California kiwifruit growers to determine whether they favor continuance of the marketing order regulating the handling of kiwifruit grown in California.

DATES: The referendum will be conducted from May 15 through May 30, 2014. To vote in this referendum, growers must have produced kiwifruit in California during the period August 1, 2012, through July 31, 2013.

ADDRESSES: Copies of the marketing order may be obtained from the California Marketing Field Office, Marketing Order and Agreement Division, Fruit and Vegetable Program, AMS, U.S. Department of Agriculture, 2202 Monterey Street, Suite 102B, Fresno, California 93721-3129, or the Office of the Docket Clerk, Marketing Order and Agreement Division, Fruit and Vegetable Program, AMS, USDA, 1400 Independence Avenue SW., STOP 0237, Washington, DC 20250-0237, or Internet: http://www.regulations.gov.

FOR FURTHER INFORMATION CONTACT: Kathie Notoro, Marketing Specialist, or Martin Engeler, Regional Director, California Marketing Field Office, Marketing Order and Agreement Division, Fruit and Vegetable Program, AMS, USDA; Telephone: (559) 487-5901, Fax: (559) 487-5906, or Email: Kathie.Notoro@ams.usda.gov or Martin.Engeler@ams.usda.gov, respectively.

SUPPLEMENTARY INFORMATION: Pursuant to Marketing Order No. 920, as amended (7 CFR part 920), hereinafter referred to as the “order,” and the applicable provisions of the Agricultural Marketing Agreement Act of 1937, as amended (7 U.S.C. 601-674), hereinafter referred to as the “Act,” it is hereby directed that a referendum be conducted to ascertain whether continuance of the order is favored by growers. The referendum shall be conducted from May 15 through May 30, 2014, among eligible California kiwifruit growers. Only current growers that were also engaged in the production of kiwifruit in California during the period of August 1, 2012, through July 31, 2013, may participate in the continuance referendum.

USDA has determined that continuance referenda are an effective means for determining whether growers favor the continuation of marketing order programs. USDA would consider termination of the order if more than fifty percent of the growers voting in the referendum and growers of more than fifty percent of the volume of California kiwifruit represented in the referendum favor termination of their program. In evaluating the merits of continuance versus termination, USDA will consider the results of the continuance referendum and other relevant information regarding operation of the order. USDA will also consider the order's relative benefits and disadvantages to growers, handlers, and consumers to determine whether continuing the order would tend to effectuate the declared policy of the Act.

In accordance with the Paperwork Reduction Act of 1995 (44 U.S.C. Chapter 35), the ballot materials used in the referendum herein ordered have been approved by the Office of Management and Budget (OMB), under OMB No. 0581-0189, Generic Fruit Crops. It has been estimated that it will take an average of 20 minutes for each of the approximately 173 growers of California kiwifruit to cast a ballot. Participation is voluntary. Ballots postmarked after May 30, 2014, will not be included in the vote tabulation.

Kathie Notoro and Rose Aguayo of the California Marketing Field Office, Fruit and Vegetable Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR 900.400-900.407).

Ballots will be mailed to all growers of record and may also be obtained from the referendum agents or from their appointees.

List of Subjects in 7 CFR Part 920

Marketing agreements, Nuts, Reporting and recordkeeping requirements, Kiwifruit.

Authority: 7 U.S.C. 601-674.

Dated: April 4, 2014.
Rex A. Barnes,
Associate Administrator, Agricultural Marketing Service.

[FR Doc. 2014-07980 Filed 4-8-14; 8:45 am]

BILLING CODE 3410-02-P